DEPARTMENT OF DEFENSE

Department of the Air Force

Public Meeting With the Community College of the Air Force Board of Visitors To Review and Discuss Academic Policies and Issues Relative to the Operation of the College

AGENCY: Department of the Air Force, DoD.

ACTION: Notice of Meeting.

SUMMARY: The Community College of the Air Force (CCAF) Board of Visitors will hold a meeting to review and discuss academic policies and issues relative to the operation of the college. Agenda items include a review of the operations of the CCAF and an update on the activities of the CCAF Policy Council.

Members of the public who wish to make oral or written statements at the meeting should contact First Lieutenant Matthew M. Groleau, Designated Federal Officer for the Board, at the address below no later than 4 p.m. on November 1, 2000. Please mail or electronically mail all requests. Telephone requests will not be honored. The request should identify the name of the individual who will make the presentation and an outline of the issues to be addressed. A minimum of 35 copies of the presentation materials must be given to First Lieutenant Matt Groleau no later than 3 days prior to the time of the board meeting for distribution. Visual aids must be submitted to First Lieutenant Matt Groleau on a 3½-inch computer disk in Microsoft PowerPoint format no later than 4 p.m. on November 1, 2000 to allow sufficient time for virus scanning and formatting of the slides.

DATES: The meeting will be held on Wednesday, November 15, 2000 at 8 a.m. on the First Floor Conference Room, Air University, 130 West Maxwell Boulevard, Maxwell Air Force Base, Alabama 36112.

FOR FURTHER INFORMATION CONTACT: First Lieutenant Matt Groleau, 334-953-7322, Community College of the Air Force, 130 West Maxwell Boulevard, Maxwell Air Force Base, Alabama, 36112-6613, or through electronic mail at matthew.groleau@maxwell.af.mil.

Janet A. Long,
Air Force Federal Register Liaison Officer.

[FR Doc. 00-19807 Filed 8-3-00; 8:45 am]

BILLING CODE 5001-05-P